POSTAL SERVICE

Notice of Availability of Annual Report of Compliance With Alternative Fuel Vehicle Acquisition Requirements of the Energy Policy Act of 1992

AGENCY: Postal Service.

ACTION: Notice.

SUMMARY: By this action, the United States Postal Service is making available to the public its annual report of compliance with the Energy Policy Act of 1992 (EPact) alternative fuel vehicle (AFV) acquisition requirements. The EPact specifies minimum numbers of AFVs that Federal agencies must acquire when purchasing or leasing light-duty vehicles. For Fiscal Year 1999 and beyond, at least 75 percent of Federal agency light-duty vehicle acquisitions must be AFVs (law enforcement, security, and emergency vehicles are exempt). The Energy Conservation Reauthorization Act of 1998 requires each Federal agency to report annually on the percentage of AFVs acquired. It also requires that each agency's report be placed on a publicly available Web site on the Internet, and that the availability of the report (including the Web site address) be published in the Federal Register.

ADDRESSES: Address all comments concerning this notice to Marguerite A. Downey, Environmental Specialist, Environmental Management Policy, United States Postal Service, 475 L'Enfant Plaza SW., Room 1P830, Washington, DC 20260-2810.

FOR FURTHER INFORMATION CONTACT: Marguerite A. Downey, 202-268-5073.

SUPPLEMENTARY INFORMATION: Interested parties may view the United States Postal Service's annual report at the following Internet Web site: http://www.usps.com/environment/envnews/compliance.htm. You may submit comments and data by sending electronic mail (e-mail) to: MDOWNEY1@email.usps.gov.

Authority: Sec. 310, Pub. L. 105-388.

Stanley F. Mires,
Chief Counsel, Legislative.

[FR Doc. 02-32180 Filed 12-20-02; 8:45 am]

BILLING CODE 7710-12-P